FEDERAL COMMUNICATIONS COMMISSION

Notice of Public Information Collection(s) Approved by the Office of Management and Budget

July 21, 2009.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the For Further Information Contact section below.

FOR FURTHER INFORMATION CONTACT: For additional information or copies of the information collection(s), contact Cathy Williams at (202) 418-2918.

SUPPLEMENTARY INFORMATION: OMB Control Number: 3060-0751.

OMB Approval Date: December 12, 2008.

Expiration Date: December 31, 2011.

Title: Section 43.51, Reports Concerning International Private Lines Interconnected to the U.S. Public Switched Network.

Form Number: Not Applicable.

Estimated Annual Burden: 40 responses; 6-8 hours per response; 300 hours total per year.

Annual Cost Burden: None.

Obligation to Respond: Required to obtain or retain benefits. The statutory authority for this collection of information is contained in 47 U.S.C. 154, 211, 219 and 220.

Nature and Extent of Confidentiality: There is no need for confidentiality.

Needs and Uses: The Commission has determined that the authorized resale of international private lines interconnected to the U.S. public switched network would tend to divert international message telephone service (IMTS) traffic from the settlements process and increase the U.S. net settlements deficit. The information will be used by the Commission in reviewing the impact, if any, that end-user private line interconnections have on the Commission's international settlements policy. The data will also enhance the ability of both the Commission and interested parties to monitor the unauthorized resale of international private lines that are interconnected to the U.S. public switched network.

OMB Control Number: 3060-0768.

OMB Approval Date: January 30, 2009.

Expiration Date: December 31, 2011.

Title: 28 GHz Band.

Form Number: Not Applicable.

Estimated Annual Burden: 65 responses; 2 hours per response; 130 hours total per year.

Annual Cost Burden: $13,200.

Obligation to Respond: Required to obtain or retain benefits. The statutory authority for this collection of information is contained in 47 U.S.C. 154 and 303(r).

Nature and Extent of Confidentiality: There is no need for confidentiality.

Needs and Uses: Applicants and licensees are required to provide the requested information to the Commission and other third parties whenever they seek authority to provide service in the 28 GHz band. If this information is compiled less frequently or not filed in conjunction with the Commission's rules, applicants and licensees will not obtain the authorization necessary to provide telecommunications services. Furthermore, the Commission would not be able to carry out its mandate as required by statute.

OMB Control Number: 3060-1035.

OMB Approval Date: February 13, 2009.

Expiration Date: January 31, 2012.

Title: Part 73, subpart F, International Broadcast Stations.

Form Number: FCC Forms 309, 310 and 311.

Estimated Annual Burden: 225 responses; 2-720 hours per response; 20,096 hours total per year.

Annual Cost Burden: $72,575.

Obligation to Respond: Required to obtain or retain benefits. The statutory authority for this collection of information is contained in 47 U.S.C. 154, 303, 307, 334, 336 and 554.

Nature and Extent of Confidentiality: There is no need for confidentiality.

Needs and Uses: This information collection is used by the Commission to assign frequencies for use by international broadcast stations, to grant authority to operate such stations and to determine if interference or adverse propagation conditions exist that may impact the operation of such stations. The Commission collects this information pursuant to 47 CFR part 73, subpart F. If the Commission did not collect this information, it would not be in a position to effectively coordinate spectrum for international broadcasters or to act for entities in times of frequency interference or adverse propagation conditions.

OMB Control Number: 3060-0686.

OMB Approval Date: March 23, 2009.

Expiration Date: March 31, 2012.

Title: International section 214 Process and Tariff Requirements—47 CFR 63.10, 63.11, 63.13, 63.18, 63.19, 63.21, 63.24, 63.25 and 1.1311.

Form Number: FCC Forms 214TC, FCC Form 214, FCC Form 214STA.

Estimated Annual Burden: 9,892 responses; 1-16 hours per response; 33,486 hours total per year.

Annual Cost Burden: $2,522,590.

Obligation To Respond: Required to obtain or retain benefits. The statutory authority for this information collection is contained in sections 1, 4(i), 4(j) 11, 201-205, 211, 214, 219, 220, 303(r), 309, 310 and 403 of the Communications Act of 1934, as amended, 47 U.S.C. 151, 154(i), 154(j), 161, 201-205, 21, 214, 219, 220, 303(r), 309 and 403, and sections 34-39.

Nature and Extent of Confidentiality: There is no need for confidentiality.

Needs and Uses: The collection of information is used by the Commission staff in carrying out its duties under the Communications Act. The information collections pertaining to part 1 of the rules are necessary to determine whether the Commission should grant a license for proposed submarine cables landing in the United States. Pursuant to Executive Order No. 10530, the Commission has been delegated the President's authority under the Cable Landing License Act to grant cable landing licenses, provided that the Commission obtains the approval from the State Department and seeks advice from other government agencies as appropriate. The information collections pertaining to part 63 are necessary largely to determine the qualifications of applicants to provide common carrier international telecommunications service, including applicants that are affiliated with foreign carriers, and to determine whether and under what conditions the authorizations are in the public interest, convenience, and necessity.

OMB Control Number: 3060-0944.

OMB Approval Date: February 27, 2009.

Expiration Date: February 29, 2012.

Title: Cable Landing License Act—47 CFR 1.767; 1.768; Executive Order 10530.

Form Number: FCC Form 220.

Estimated Annual Burden: 246 responses; 1-8 hours per response; 516 hours total per year.

Annual Cost Burden: $240,945.

Obligation To Respond: Required to obtain or retain benefits. The statutory authority for this information collection is contained in the Submarine Cable Landing License Act of 1921, Executive Order 10530, 47 U.S.C. 34-39, 151, 154(i), 154(j), 155, 225, 303(r), 309 and 325(e).

Nature and Extent of Confidentiality: There is no need for confidentiality.

Needs and Uses: The information will be used by the Commission staff in carrying out its duties under the Cable Landing License Act and the Coastal Zone Management Act of 1972. The information collections pertaining to part 1 of the rules are necessary to determine whether the Commission should grant a license for proposed submarine cables landing in the United States. Pursuant to Executive Order No. 10530, the Commission has been delegated the President's authority under the Cable Landing License Act to grant cable landing licenses, provided that the Commission must obtain the approval of the State Department and seek advice from other government agencies as appropriate.

OMB Control Number: 3060-1014.

OMB Approval Date: February 20, 2009.

Expiration Date: February 29, 2012.

Title: Section 25.146(l), Ku-Band NGSO FSS.

Form Number: Not Applicable.

Estimated Annual Burden: 1 response; 2 hours per response; 2 total annual burden hours.

Annual Cost Burden: None.

Obligation to Respond: Required to obtain or retain benefits. The statutory authority for this information collection is contained in sections 1, 4(i), 301, 303, 308, 309, and 310 of the Communications Act of 1934, as amended, 47 U.S.C. 151, 154(i), 301, 303, 308, 309, and 310.

Nature and Extent of Confidentiality: There is no need for confidentiality.

Needs and Uses: The information collection requirements (annual filings by licensees of reports on the status of their space station construction and launch) accounted for in this collection are necessary to ensure that prospective licensees in the Non-geostationary (NGSO) Fixed Satellite Service (FSS) follow their service rules.

OMB Control Number: 3060-1095.

OMB Approval Date: March 24, 2009.

Expiration Date: March 31, 2012.

Title: Surrenders of Authorizations for International Carrier, Space Station and Earth Station Licensees.

Form Number: Not Applicable.

Estimated Annual Burden: 306 responses; 1 hour per response; 306 total hours per year.

Annual Cost Burden: None.

Obligation to Respond: Voluntary. The statutory authority for this information collection is contained in sections 4(i), 7(a), 11, 303(c), 303(f), 303(g), and 303(r) of the Communications Act of 1934, as amended; 47 U.S.C. section 154(i), 157(a), 161, 303(c), 303(f), 303(g), and 303(r).

Nature and Extent of Confidentiality: There is no need for confidentiality.

Needs and Uses: Licensees file surrenders of authorizations with the Commission on a voluntary basis. This information is used by Commission staff to issue Public Notices to announce the surrenders of authorization to the general public. The Commission's release of Public Notices is critical to keeping the general public abreast of the licensees' discontinuance of telecommunications services. Without this collection of information, licensees would be required to submit surrenders of authorizations to the Commission by letter which is more time consuming than submitting such requests to the Commission electronically. In addition, Commission staff would spend an extensive amount of time processing surrenders of authorizations received by letter. The collection of information saves time for both licensees and Commission staff since they are received in MyIBFS electronically and include only the information that is essential to process the requests in a timely manner. Furthermore, the E-filing module expedites the Commission staff's announcement of surrenders of authorizations via Public Notice.

Federal Communications Commission.
Marlene H. Dortch,
Secretary.

[FR Doc. E9-17830 Filed 7-24-09; 8:45 am]

BILLING CODE 6712-01-P